DEPARTMENT OF COMMERCE

National Oceanic and Atmospheric Administration

50 CFR Part 635

[Docket No. 250813-0137]

RIN 0648-BN53

Atlantic Highly Migratory Species; Prohibit Retention of Mobulid Rays in Fisheries for Atlantic Highly Migratory Species

AGENCY: National Marine Fisheries Service (NMFS), National Oceanic and Atmospheric Administration (NOAA), Commerce.

ACTION: Proposed rule; request for comments.

SUMMARY: NMFS is proposing changes to regulations to implement the binding International Commission for the Conservation of Atlantic Tunas (ICCAT) Recommendation 24-12 on mobulid rays of the family Mobulidae, which was adopted in 2024. Specifically, NMFS is proposing to prohibit retention of mobulid rays in fisheries for Atlantic highly migratory species (HMS), to require mobulid rays to be released unharmed in HMS fisheries, and to implement mobulid ray handling practices for vessels fishing with pelagic longline gear.

DATES: Written comments must be received by September 22, 2025. NMFS will hold a public hearing webinar on September 18, 2025, from 1 p.m. to 3 p.m. ET. For additional details on the public hearing, see the SUPPLEMENTARY INFORMATION section of this document

ADDRESSES: A plain language summary of this proposed rule is available at https://www.regulations.gov/docket/NOAA-NMFS-2025-0015. You may submit comments on this document, identified by NOAA-NMFS-2025-0015, by electronic submission. Submit all electronic public comments via the Federal e-Rulemaking Portal. Visit https://www.regulations.gov and type “NOAA-NMFS-2025-0015” in the Search box. Click on the “Comment” icon, complete the required fields, and enter or attach your comments.

Instructions: Comments sent by any other method, to any other address or individual, or received after the end of the comment period, may not be considered by NMFS. All comments received are a part of the public record and will generally be posted for public viewing on https://www.regulations.gov without change. All personal identifying information (e.g., name, address, etc.), confidential business information, or otherwise sensitive information submitted voluntarily by the sender will be publicly accessible. NMFS will accept anonymous comments (enter “N/A” in the required fields if you wish to remain anonymous).

Additional information related to this proposed rule, including electronic copies of the supporting documents are available from the HMS Management Division website at https://www.fisheries.noaa.gov/action/comments-requested-proposed-rule-prohibit-retention-mobulid-rays-atlantic-highly-migratory or by contacting Carrie Soltanoff at carrie.soltanoff@noaa.gov or by phone at 301-427-8503.

FOR FURTHER INFORMATION CONTACT: Carrie Soltanoff at carrie.soltanoff@noaa.gov, or by phone at 301-427-8503.

SUPPLEMENTARY INFORMATION: Federal Atlantic HMS fisheries (tunas, billfish, swordfish, and sharks) are managed under the 2006 Consolidated HMS Fishery Management Plan (HMS FMP) and its amendments, pursuant to the Magnuson-Stevens Fishery Conservation and Management Act (Magnuson-Stevens Act; 16 U.S.C. 1801 et seq.) and consistent with the Atlantic Tunas Convention Act (ATCA; 16 U.S.C. 971 et seq.). HMS are defined at section 3(21) of the Magnuson-Stevens Act (see 16 U.S.C. 1802(21)) and the provisions for their management are at section 304(g)(1) (see 16 U.S.C. 1854(g)(1)). ATCA is the implementing statute for binding recommendations of ICCAT. HMS implementing regulations are at 50 CFR part 635.

NMFS has prepared a draft Environmental Assessment (EA), Regulatory Impact Review (RIR), and an Initial Regulatory Flexibility Analysis (IRFA), which present the alternatives considered for this proposed rule and analyze their anticipated environmental, social, and economic impacts. A brief summary of background information and the alternatives considered is provided below. Additional information regarding this action and HMS management overall can be found in the draft EA/RIR/IRFA, the HMS FMP and its amendments, the annual HMS Stock Assessment and Fishery Evaluation Reports, and online at https://www.fisheries.noaa.gov/topic/atlantic-highly-migratory-species.

Statutory Authority

Under section 971d(c)(1)(A) of ATCA, NMFS must promulgate such regulations as may be necessary and appropriate to carry out binding recommendations of ICCAT. Further, regulations promulgated shall, to the extent practicable, be consistent with FMPs prepared and implemented under the Magnuson-Stevens Act (see section 971d(c)(1)(C)). Additionally, the Magnuson-Stevens Act requires measures in an FMP such as the HMS FMP to be consistent with regulations implementing recommendations by international organizations, as well as the National Standards (see section 303(a)(1)(C) or 16 U.S.C. 1853(a)(1)(C)). National Standard 9 requires that conservation and management measures shall, to the extent practicable: (A) minimize bycatch (as defined at 16 U.S.C. 1802(2)); and, (B) to the extent bycatch cannot be avoided, minimize the mortality of such bycatch (see section 301(a)(9) or 16 U.S.C. 1851(a)(9)). Section 305(d) provides for the promulgation of such regulations as may be necessary to implement an FMP such as the HMS FMP, and would help ensure that the HMS FMP is implemented consistently with the ICCAT recommendation, as well as National Standard 9 (see section 305(d) or 16 U.S.C. 1855(d)).

Background

This section provides a brief overview of domestic and international management measures for mobulid rays (family Mobulidae) in the Atlantic, as well as the current operational practices of HMS fisheries in relation to mobulid rays. There are currently no regulations at 50 CFR part 635 concerning mobulid rays, nor are there any measures described in the HMS FMP or its amendments. The FMP for the Exclusive Economic Zone (EEZ) around Puerto Rico lists one species of mobulid ray, the giant manta ray (Mobula birostris), as a prohibited species (87 FR 56204, September 13, 2022; see 50 CFR 622.438(f)). The harvest of mobulid rays is not managed under any other FMPs in the U.S. Atlantic, including in the Gulf or Caribbean.

In HMS fisheries, mobulid rays are bycatch and are not targeted or retained. NMFS does not have records of sales of mobulid rays from HMS fisheries. Interaction rates of HMS fisheries with mobulid rays are low. While there are no regulatory requirements specific to mobulid rays in HMS fisheries, HMS fisheries are subject to a number of requirements on bycatch mitigation and safe handling and release of other bycatch species (see for example, requirements for all HMS gears at § 635.21(a)(1) and (2), pelagic longline sea turtle bycatch mitigation measures at § 635.21(c)(5) and shark bycatch mitigation measures at § 635.21(c)(6), and bottom longline bycatch mitigation measures at § 635.21(d)(2)).

The giant manta ray is listed as threatened under the Endangered Species Act (ESA; 83 FR 2916, January 22, 2018; 88 FR 81351, November 22, 2023). In recognition of the ESA listing, NMFS developed recommended giant manta ray handling and release procedures (https://media.fisheries.noaa.gov/dam-migration/manta__hms_placard_2020.pdf). These procedures were distributed to HMS fishermen per the Terms and Conditions of 2020 Biological Opinions for HMS fisheries. A Draft Recovery Plan, a Draft Recovery Implementation Strategy, and a Recovery Status Review for giant manta ray were released in 2024 (https://www.fisheries.noaa.gov/species/giant-manta-ray/conservation-management). Under the Draft Recovery Plan, recovery actions include: through international coordination and collaboration with relevant international organizations, such as Regional Fishery Management Organizations (RFMOs), eliminate target fisheries and minimize fisheries bycatch and mortality of giant manta rays; improve species-specific monitoring and reporting of giant manta rays in commercial and artisanal fisheries by RFMOs and individual countries to improve estimates of catch and discards, provide a better understanding of the effects of illegal, unreported, and unregulated fishing, and measure progress towards recovery; and minimize fishing mortality of giant manta rays through effective development, implementation, and enforcement of international and domestic measures such as legislation and regulations.

ICCAT conservation and management measures for mobulid rays were first adopted in 2023 under Recommendation 23-14. However, implementation of that recommendation was delayed pending further scientific advice from ICCAT's Standing Committee on Research and Statistics (SCRS). In 2024, the SCRS advised that the Commission give full effect to the measures in Recommendation 23-14, due to factors including life history traits of mobulid rays such as low productivity and slow growth; known interactions between mobulids and fisheries, including purse seine fisheries and, to a lesser extent, longline fisheries; incomplete fisheries data; and poor species identification.

In 2024, ICCAT adopted Recommendation 24-12 on mobulid rays. This recommendation replaced Recommendation 23-14 and has identical provisions to the previous recommendation with the addition of a reference to Recommendation 19-01. Recommendation 24-12 requires, among other things, that the United States and other ICCAT parties prohibit retaining on board, transshipping, landing, or storing any part or whole carcass of all species of mobulid rays (family Mobulidae) as listed in Recommendation 19-01 and taken in the Convention area in association with ICCAT fisheries. Further, Recommendation 24-12 requires that vessels promptly release unharmed, to the extent practicable, mobulid rays as soon as they are seen in the net, on the hook, or at the vessel, in a manner that shall result in the least possible harm to the individual. Recommendation 24-12 also encourages implementation of best handling practices for the safe release of mobulid rays. For longline gear, suggested handling practices include to leave the animal in the water, to use a de-hooker to remove the hook or a long-handled line cutter to cut the gear as close to the hook as possible, and not to gaff, drag, carry, lift or pull a ray by its “cephalic lobes” or tail or by inserting hooks or hands into the gill slits or the spiracles.

Of the species of mobulid rays in the family Mobulidae, HMS fisheries are most likely to interact with the following five species: Mobula birostris, M. hypostoma, M. mobular, M. tarapacana, and M. thurstoni. Recommendation 19-01, referenced in Recommendation 24-12, lists the following seven species of mobulid rays as relevant to ICCAT: Manta alfredi (reef manta ray), Manta birostris (giant manta ray), Mobula hypostoma (lesser, or pygmy, devil ray), M. japonica, M. mobular (devil fish or spinetail devil ray), M. tarapacana (Chilean, or sicklefin, devil ray), and M. thurstoni (smoothtail mobula or bentfin devil ray). Subsequent to adoption of Recommendation 19-01 and as detailed in a 2024 SCRS paper (https://www.iccat.int/Documents/CVSP/CV081_2024/n_9/CV08109098.pdf), Manta alfredi and Manta birostris became recognized as belonging to the genus Mobula. M. japonica is now considered to be the same species as M. mobular. M. alfredi occurs in the Pacific, with some studies indicating the species may have been reported in the eastern Atlantic Ocean and thus highly unlikely to interact with HMS fisheries. Therefore, HMS fisheries are most likely to interact with five species of mobulid rays. The 2024 SCRS paper notes that the taxonomy of mobulid rays is still somewhat uncertain, as evidenced by these recent changes, and any management measures should be established at the family level (i.e., Mobulidae) to alleviate potential future problems with management or enforcement if there are further taxonomic revisions.

Proposed Measures

Consistent with ICCAT Recommendation 24-12, NMFS is proposing to prohibit retention of mobulid rays of the family Mobulidae in HMS fisheries, to require mobulid rays to be released unharmed in HMS fisheries, and to implement mobulid ray handling practices for vessels fishing with pelagic longline gear. These proposed measures would also be consistent with National Standard 9, and for giant manta rays, the ESA Draft Recovery Plan, Draft Recovery Implementation Strategy, and recommended handling and release procedures that have already been distributed to HMS fisheries. As described below, NMFS considered three alternatives on retention of mobulid rays and three alternatives on handling and release practices for mobulid rays. These alternatives included both no action and the preferred alternatives. The purpose of this action is to protect mobulid rays and minimize their bycatch and bycatch mortality to the extent practicable in HMS fisheries.

Prohibition on Retention of Mobulid Rays

NMFS is proposing, under preferred Alternative A3, to prohibit retention of mobulid rays in all HMS fisheries. Vessels issued, or which should have been issued, any HMS permit, commercial or recreational, would be prohibited from retaining, transshipping, landing, or storing any parts or whole carcasses of mobulid rays. Persons would be prohibited from selling or purchasing any mobulid ray, a whole carcass or part thereof, that was caught by a vessel issued or required to be issued a permit for HMS.

This alternative would implement Recommendation 24-12, prohibiting retention of mobulid rays taken in association with ICCAT fisheries. Fisheries for tunas and tuna-like species (i.e., swordfish and billfish) are considered to be ICCAT fisheries. This alternative would additionally prohibit retention of mobulid rays in fisheries for sharks. While fisheries for sharks are not ICCAT fisheries for tunas and tuna-like species, application of the measures for shark fisheries would ensure consistent application, facilitate effective implementation, and provide clarity for the regulated community and for enforcement purposes. Applying this requirement in all HMS fisheries would further implement measures in the HMS FMP consistent with the National Standards (specifically National Standard 9 here) and regulations implementing recommendations by international organizations, as required under the Magnuson-Stevens Act. Similarly, implementing a prohibition on sale or purchase of mobulid rays in addition to prohibiting their retention would facilitate effective implementation and provide clarity for the regulated community and for enforcement purposes.

Under this alternative, researchers conducting research on mobulid rays would need an exempted fishing permit or related permit (e.g., scientific research permit, display permit) consistent with the regulations at § 635.32 exempting them from the mobulid ray regulations when conducting research on any HMS-permitted fishing vessel. Researchers who interact with giant manta rays would continue to need to consult with the NMFS Office of Protected Resources for any additional authorizations required under the ESA.

Handling and Release Practices for Mobulid Rays

NMFS is proposing, under preferred Alternative B2, to require vessels issued, or which should have been issued, any HMS permit to release unharmed, to the extent practicable, mobulid rays as soon as they are seen on the hook or at the vessel (with additional requirements for pelagic longline vessels as described under Alternative B3). This alternative would implement Recommendation 24-12, requiring vessels to promptly release mobulid rays unharmed, to the extent practicable. Application of this requirement in all HMS fisheries, rather than only ICCAT fisheries for tunas and tuna-like species, would ensure consistent application, facilitate effective implementation, and provide clarity for the regulated community and for enforcement purposes.

In addition, this alternative would align HMS fishery requirements with the giant manta ray handling and release procedures recommended after the ESA listing which state that giant manta rays should be released in a manner that will promote their survival after any fishery interaction (https://media.fisheries.noaa.gov/dam-migration/manta__hms_placard_2020.pdf). As Alternative B2 would apply this requirement to all mobulid rays, this alternative would also avoid any differing requirement among species of mobulid rays that could lead to mishandling of giant manta rays due to misidentification. The 2024 Recovery Status Review for Giant Manta Ray describes a high rate of misidentification between giant manta rays and other mobulid rays.

NMFS is also proposing, under preferred Alternative B3, to require vessels issued, or which should have been issued, an HMS permit and fishing with pelagic longline gear to release, as safely as practicable, any hooked or entangled mobulid rays using dehookers or line clippers or cutters. If using a line clipper or cutter, the gangion would be required to be cut so that less than 3 feet (91.4 centimeters (cm)) of line remains attached to the hook. Handling requirements would also state that mobulid rays must be left in the water, and no mobulid ray may be gaffed.

This alternative would implement the suggested best handling practices for the safe release of mobulid rays in Recommendation 24-12. In addition, similar to Alternative B2, this alternative would align HMS fisheries with aspects of the recommended giant manta ray handling and release procedures. As Alternative B3 would apply this requirement to all mobulid rays, this alternative would also avoid any differing requirement among species of mobulid rays that could lead to mishandling of giant manta rays due to misidentification. Further, requiring mobulid rays to be dehooked or cut off with a limited amount of line would facilitate the ability of NMFS observers and vessel captains or crew to identify and report which species of mobulid ray was involved in the interaction. The requirement to cut the gangion so that less than 3 feet of line remains attached to the hook would be consistent with handling and release requirements for shark bycatch on pelagic longline gear (see § 635.21(c)(6)(i)).

Other Alternatives Analyzed

In addition to the proposed measures described above, in the EA for this action, NMFS analyzed two no action alternatives (Alternatives A1 and B1) that would maintain the status quo in HMS fisheries. NMFS does not prefer the no action alternatives because they do not meet the objectives of the rule. The EA for this action also describes the impacts of one other alternative. Alternative A2 would prohibit retention of mobulid rays in fisheries for tunas and tuna-like species. NMFS does not prefer Alternative A2 because, while it would implement Recommendation 24-12, application of this measure in some HMS fisheries and not others (i.e., fisheries for sharks) could lead to issues related to inconsistent application, complicate implementation, and cause confusion or complications for the regulated community and for enforcement purposes.

Request for Comments

NMFS is requesting comments on this proposed rule, which may be submitted via https://www.regulations.gov or at a public hearing. NMFS solicits comments on this action by September 22, 2025 (see DATES and ADDRESSES sections).

During the comment period, NMFS will hold a public hearing via webinar for this proposed action on September 18, 2025, from 1 p.m. to 3 p.m. ET. Further information on how to attend the webinar can be found at https://www.fisheries.noaa.gov/action/comments-requested-proposed-rule-prohibit-retention-mobulid-rays-atlantic-highly-migratory. Requests for sign language interpretation or other auxiliary aids should be directed to Carrie Soltanoff at carrie.soltanoff@noaa.gov or 301-427-8503, at least 7 days prior to the meeting. In addition, any requests for in-person public hearings during the comment period should be directed to Carrie Soltanoff.

The public is reminded that NMFS expects participants at the public hearings to conduct themselves appropriately. At the beginning of each public hearing, a representative of NMFS will explain the ground rules (e.g., alcohol is prohibited from the hearing room, attendees will be called to give their comments in the order in which they registered to speak, each attendee will have an equal amount of time to speak, and attendees should not interrupt one another). At the beginning of each webinar, the moderator will explain how the webinar will be conducted and how and when participants can provide comments. The NMFS representative(s) will attempt to structure the webinar so that all attending members of the public will be able to comment, if they so choose, regardless of the controversial nature of the subject(s). Attendees are expected to respect the ground rules, and if they do not, they may not be allowed to speak during the webinar.

Classification

As described in the introduction, NMFS is issuing this proposed rule pursuant to the Atlantic Tunas Convention Act section 971d(c)(1)(A) and the Magnuson-Stevens Act section 305(d). The NMFS Assistant Administrator has determined that this proposed rule is consistent with the HMS FMP and its amendments, other provisions of the Magnuson-Stevens Act and other applicable law, subject to further consideration after public comment.

This proposed rule has been determined to be not significant for purposes of Executive Order 12866.

This proposed rule is not an Executive Order 14192 regulatory action because this rule is not significant under Executive Order 12866.

An IRFA was prepared, as required by section 603 of the Regulatory Flexibility Act (RFA). The IRFA describes the economic impact that this proposed rule, if adopted, would have on small entities. A description of the action, why it is being considered, and the legal basis for this action are contained at the beginning of this section in the preamble and in the SUMMARY section of the preamble. A summary of the analysis follows. A copy of this analysis is available from NMFS (see ADDRESSES section).

Section 603(b)(1) requires agencies to describe the reasons why the action is being considered. The purpose of this proposed rulemaking is to protect mobulid rays and minimize their bycatch and bycatch mortality to the extent practicable in HMS fisheries consistent with ICCAT Recommendation 24-12, as well as National Standard 9 of the Magnuson-Stevens Act.

Section 603(b)(2) of the RFA requires agencies to state the objectives of, and legal basis for, the proposed action. The objective of this proposed rulemaking is to implement binding ICCAT Recommendation 24-12, adopted in 2024, which prohibits the retention of mobulid rays in ICCAT fisheries and details best practices for handling and release of mobulid rays. NMFS is issuing this proposed rule pursuant to the Atlantic Tunas Convention Act section 971d(c)(1)(A) and the Magnuson-Stevens Act section 305(d).

Section 603(b)(3) of the RFA requires agencies to provide an estimate of the number of small entities to which the proposed rule would apply. The Small Business Administration (SBA) has established size criteria for all major industry sectors in the United States, including fish harvesters. Provision is made under SBA's regulations for an agency to develop its own industry-specific size standards after consultation with Advocacy and an opportunity for public comment (see 13 CFR 121.903(c)). Under this provision, NMFS may establish size standards that differ from those established by the SBA Office of Size Standards, but only for use by NMFS and only for the purpose of conducting an analysis of economic effects in fulfillment of the agency's obligations under the RFA. To utilize this provision, NMFS must publish such size standards in the Federal Register, which NMFS did on December 29, 2015 (80 FR 81194). In that final rule, effective on July 1, 2016, NMFS established a small business size standard of $11 million in annual gross receipts for all businesses in the commercial fishing industry (North American Industry Classification System (NAICS) code 11411) for RFA compliance purposes. NMFS considers all HMS permit holders to be small entities because they had average annual receipts of less than $11 million for commercial fishing. SBA has established size standards for all other major industry sectors in the United States, including the scenic and sightseeing transportation (water) sector (NAICS code 487210, for-hire), which includes charter/party boat entities. SBA has defined a small charter/party boat entity as one with average annual receipts (revenue) of less than $14 million.

The proposed rule would apply to the permit holders of 164 Swordfish Directed, 63 Swordfish Incidental, 68 Swordfish Handgear, 188 Shark Directed, 221 Shark Incidental, and 223 Atlantic Tunas Longline category limited access permits. The proposed rule would also apply to the permit holders of 4,324 HMS Charter/Headboat permits (with 3,085 shark endorsements and 2,014 commercial sale endorsements), 3,471 Atlantic Tunas General category and Swordfish General Commercial permits (with 1,709 shark endorsements), 37 Atlantic Tunas Harpoon category permits, 66 Commercial Caribbean Small Boat permits, and 188 Smoothhound Shark permits. This proposed rule would also affect HMS Angling permit holders, but those permit holders are considered individuals and not small entities under RFA. NMFS considers all HMS permit holders, both commercial and for-hire, to be small entities because they have average annual receipts of less than their respective sector's standard of $11 million and $14 million. NMFS has determined that the proposed rule would not likely affect any small governmental jurisdictions. More information regarding the description of the fisheries affected, and the categories and number of permit holders can be found in the HMS Stock Assessment and Fishery Evaluation Report.

Section 603(b)(4) of the RFA requires agencies to describe any new reporting, record-keeping, and other compliance requirements. This proposed rule does not contain any new collection of information, reporting, or record-keeping requirements.

Under section 603(b)(5) of the RFA, agencies must identify, to the extent practicable, relevant Federal rules which duplicate, overlap, or conflict with the proposed action. Fishermen, dealers, and managers in these fisheries must comply with a number of international agreements, domestic laws, and other fishery management measures. These include, but are not limited to, the Magnuson-Stevens Act, ATCA, the High Seas Fishing Compliance Act, the Marine Mammal Protection Act, the ESA, the National Environmental Policy Act, the Paperwork Reduction Act, and the Coastal Zone Management Act. This proposed action has been determined not to duplicate, overlap, or conflict with any Federal rules.

Under section 603(c) of the RFA, agencies must describe any significant alternatives to the proposed rule which accomplish the stated objectives of applicable statutes and which minimize any significant economic impact of the proposed rule on small entities. The analysis shall discuss significant alternatives such as: (1) establishment of differing compliance or reporting requirements or timetables that take into account the resources available to small entities; (2) clarification, consolidation, or simplification of compliance and reporting requirements under the rule for such small entities; (3) use of performance rather than design standards; and (4) exemptions from coverage of the rule, or any part thereof, for small entities. These categories of alternatives are described at 5 U.S.C. 603(c)(1)-(4). NMFS examined each of these categories of alternatives. Regarding the first, second, and fourth categories, NMFS cannot establish differing compliance or reporting requirements for small entities or exempt small entities from coverage of the rule or parts of it because all of the businesses impacted by this rule are considered small entities and thus the requirements are already designed for small entities. NMFS does not know of any performance or design standards that would satisfy the aforementioned objectives of this rulemaking while, concurrently, complying with ATCA and the Magnuson-Stevens Act. As described below, NMFS analyzed several different alternatives in this proposed rulemaking, and provides rationales for identifying the preferred alternatives to achieve the desired objectives. The alternatives considered and analyzed are described below. The IRFA assumes that each vessel will have similar catch and gross revenues to show the relative impact of the proposed action on vessels.

Under Alternative A1, the No Action alternative, the HMS regulations at 50 CFR part 635 would continue not to address retention of mobulid rays. In HMS fisheries, mobulid rays are bycatch and are not targeted or retained. NMFS does not have records of sales of mobulid rays from HMS fisheries. This would likely indicate neutral economic impacts on small entities participating in HMS fisheries. However, there are potential costs to not implementing binding ICCAT recommendations, including potentially being identified for noncompliance by the ICCAT Compliance Committee and thereby influencing decisions by consumers due to negative public perception, which could result in minor adverse economic impacts. By contrast, in the future, if small entities permitted in HMS fisheries decide to retain and sell mobulid rays under Alternative A1, that decision could result in revenue that has minor beneficial economic impacts. The impact is likely to be minor since there is a very limited market in the United States. The same potential costs to noncompliance with binding ICCAT recommendations could exist.

Under Alternative A2, NMFS would prohibit retention of mobulid rays in fisheries for tunas and tuna-like species (i.e., swordfish and billfish), which are considered to be ICCAT fisheries. Retention of mobulid rays in fisheries for sharks would not be addressed under this alternative. In HMS fisheries, mobulid rays are bycatch and are not targeted or retained. NMFS does not have records of sales of mobulid rays from HMS fisheries. Therefore, Alternative A2 would likely result in neutral economic impacts on small entities participating in HMS fisheries. However, if small entities permitted to fish for sharks with bottom longline or gillnet decide to retain and sell mobulid rays in the future under Alternative A2, that revenue could result in long-term minor beneficial social and economic impacts, but to a lesser degree than potential revenue in all HMS fisheries under Alternative A1. The impact is likely to be minor since there is a very limited market in the United States.

Under preferred Alternative A3, NMFS would prohibit retention of mobulid rays in all HMS fisheries. In HMS fisheries, mobulid rays are bycatch and are not targeted or retained. NMFS does not have records of sales of mobulid rays from HMS fisheries. Therefore, Alternative A3 would likely result in neutral economic impacts on small entities participating in HMS fisheries.

Under Alternative B1, the No Action alternative, the HMS regulations at 50 CFR part 635 would continue not to address handling practices or release of mobulid rays. Current giant manta ray handling and release procedures under the ESA would remain in place. Alternative B1 would not require any changes to current mobulid rays handling and release practices and, therefore, would likely result in neutral economic impacts on small entities participating in HMS fisheries. However, there are potential costs to not implementing binding ICCAT recommendations, including potentially being identified for noncompliance by the ICCAT Compliance Committee and thereby influencing decisions by consumers due to negative public perception, which could result in minor adverse economic impacts.

Under preferred Alternative B2, vessels issued any HMS permit would be required to release unharmed, to the extent practicable, mobulid rays as soon as they are seen on the hook or at the vessel (with additional requirements for pelagic longline vessels as described under Alternative B3). In HMS fisheries, mobulid rays are bycatch and are not targeted or retained. NMFS does not have records of sales of mobulid rays from HMS fisheries. Therefore, Alternative B2 would likely result in neutral economic impacts on small entities participating in HMS fisheries.

Under preferred Alternative B3, NMFS would implement handling practices for mobulid rays caught on pelagic longline gear, including requirements to limit trailing line to three feet, to leave mobulid rays in the water, to use a dehooking device, and to not gaff mobulid rays. Currently, pelagic longline fishermen are required to use a dehooking device if a protected species (e.g., sea turtle or marine mammal) is caught, as well as for sharks that will not be retained, but they are not currently required to use a dehooker to release all mobulid rays. While this fishery infrequently interacts with mobulid rays, it is common practice in the pelagic longline fishery to release mobulid rays by cutting the gangion. However, they usually do not cut the gangions so only three feet remains. They are, nevertheless, already required to leave only three feet of trailing line when cutting off a shark that will not be retained. Therefore, Alternative B3 would likely result in short-term minor adverse economic impacts to small entities as fishermen adjust to this new practice. Although this may be an initial issue, NMFS expects that these inefficiencies would be minimal and that fishermen would become adept in using these practices to release mobulid rays over time given they are adept at using similar practices to release sharks and protected species. Thus, Alternative B3 would be expected to have neutral long-term economic impacts.

This proposed rule contains no information collection requirements under the Paperwork Reduction Act of 1995.

List of Subjects in 50 CFR Part 635

Fisheries, Fishing, Fishing vessels, Foreign relations, Imports, Penalties, Reporting and recordkeeping requirements, Statistics, Treaties.

Dated: August 20, 2025.
Samuel D. Rauch III,
Deputy Assistant Administrator for Regulatory Programs, National Marine Fisheries Service.

For the reasons set out in the preamble, NMFS proposes to amend 50 CFR part 635 as follows:

PART 635—ATLANTIC HIGHLY MIGRATORY SPECIES

1. The authority citation for part 635 continues to read as follows:

Authority: 16 U.S.C. 971 et seq.; 16 U.S.C. 1801 et seq.

2. In § 635.2, add the definition of “mobulid ray” in alphabetical order to read as follows:

§ 635.2 Definitions.

* * * * *

Mobulid ray means any species of ray in the family Mobulidae.

* * * * *

3. In § 635.21, add paragraphs (a)(5) and (c)(7) to read as follows:

§ 635.21 Gear operation and deployment restrictions.

(a) * * *

* * * * *

(5) Any mobulid ray caught by a vessel that has been issued or should have been issued an HMS permit must be released unharmed, to the extent practicable, as soon as it is seen on the hook or at the vessel, except that a vessel with pelagic longline on board must undertake the bycatch mitigation measures described in paragraph (c)(7) of this section.

* * * * *

(c) * * *

* * * * *

(7) The owner or operator of a vessel permitted or required to be permitted under this part and that has pelagic longline gear on board must, as safely as practicable, release any hooked or entangled mobulid ray using dehookers or line clippers or cutters. If using a line clipper or cutter, the gangion must be cut so that less than three feet (91.4 cm) of line remains attached to the hook. Mobulid rays must be released without removing the ray from the water. No mobulid ray may be gaffed.

* * * * *

4. In § 635.22, add paragraph (g) to read as follows:

§ 635.22 Recreational retention limits.

* * * * *

(g) Mobulid rays. No mobulid ray, a whole carcass or part thereof, may be retained, landed, or stored by a vessel issued or required to be issued a permit for HMS under § 635.4.

* * * * *

5. In § 635.24, add paragraph (d) to read as follows:

§ 635.24 Commercial retention limits for sharks, swordfish, and BAYS tunas.

* * * * *

(d) Mobulid rays. No mobulid ray, a whole carcass or part thereof, may be retained, transshipped, landed, or stored by a vessel issued or required to be issued a permit for HMS under § 635.4.

* * * * *

6. In § 635.31, add paragraph (e) to read as follows:

§ 635.31 Restrictions on sale and purchase.

* * * * *

(e) Mobulid rays. Persons may not sell or purchase any mobulid ray, a whole carcass or part thereof, that was caught by a vessel issued or required to be issued a permit for HMS under § 635.4.

* * * * *

7. In § 635.71, add paragraphs (a)(63) and (64) to read as follows:

§ 635.71 Prohibitions.

* * * * *

(a) * * *

(63) Retain, transship, land, store, sell, or purchase any mobulid ray, a whole carcass or part thereof, as specified in § 635.21(a)(5), § 635.22(g), § 635.24(d), and § 635.31(e).

(64) Release a mobulid ray with more than 3 feet (91.4 cm) of trailing gear, remove a mobulid ray from the water, or gaff a mobulid ray, as specified in § 635.21(c)(7).

* * * * *

[FR Doc. 2025-16158 Filed 8-21-25; 8:45 am]

BILLING CODE 3510-22-P